DEPARTMENT OF DEFENSE

Office of the Secretary

[DoD-2007-OS-0033]

U.S. Court of Appeals for the Armed Forces Proposed Rules Changes

ACTION: Notice of Proposed Changes to the Rules of Practice and Procedure of the United States Court of Appeals for the Armed Forces.

SUMMARY: This notice announces the following proposed changes to Rule 24 of the Rules of Practice and Procedure, United States Court of Appeals for the Armed Forces for public notice and comment. New language is in bold print. Language to be deleted is marked by a strikethrough.

DATES: Comments on the proposed changes must be received by May 2007.

ADDRESSES: You may submit comments, identified by docket number and or RIN number and title, by any of the fallowing methods:

Federal eRulemaking Portal: http://www.regulations.gov. Following the instructions for submitting comments.

Mail: Federal Docket Management System Office, 1160 Defense Pentagon, Washington, DC 20301-1160.

Instructions: All submissions received must include the agency name and docket number of Regulatory Information Number (RIN) for the Federal Register document. The general policy for comments and other submissions available for public viewing on the Internet at http://regulations.gov as they are received without change, including personal identifiers or contact information.

FOR FURTHER INFORMATION CONTACT: William A. DeCicco, Clerk of the Court, telephone (202) 761-1448, ext. 600.

Dated: April 5, 2007.
L.M. Bynum,
Alternate OSD Federal Liaison Officer, DoD.

BILLING CODE 5001-06-M

[FR Doc. 07-1789 Filed 4-10-07; 8:45 am]

BILLING CODE 5001-06-C